DEPARTMENT OF DEFENSE

Department of the Navy

Notice of Intent To Grant Exclusive Patent License; MHM Technologies, LLC

AGENCY: Department of the Navy, DoD.

ACTION: Notice.

SUMMARY: The Department of the Navy hereby gives notice of its intent to grant to MHM Technologies, LLC a revocable, nonassignable, exclusive license to practice in the United States, the Government-owned invention described in U.S. Patent application 12/793,503 (Navy Case 100,000): Filed June 3, 2010, entitled “Auto Adjusting Ranging Device”.

DATES: Anyone wishing to object to the grant of this license must file written objections along with supporting evidence, if any, not later than March 27, 2012.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: March 2, 2012.
L.M. Senay,
Lieutenant, Office of the Judge Advocate, U.S. Navy, Alternate Federal Register Liaison Officer.

[FR Doc. 2012-5869 Filed 3-9-12; 8:45 am]

BILLING CODE 3810-FF-P